DEPARTMENT OF COMMERCE

National Oceanic and Atmospheric Administration

[I.D. 062900C]

North Pacific Fishery Management Council; Public Meeting

AGENCY: National Marine Fisheries Service (NMFS), National Oceanic and Atmospheric Administration (NOAA), Commerce.

ACTION: Notice of committee meeting.

SUMMARY: The North Pacific Fishery Management Council's (NPFMC) Observer Committee will meet in Seattle, WA.

DATES: The meeting will be held on July 24-25, 2000.

ADDRESSES: The meeting will be held at the Alaska Fisheries Science Center, 7600 Sand Point Way NE, Bldg. 4, Room 1055, Seattle, WA.

Council address: North Pacific Fishery Management Council, 605 W. 4th Ave., Suite 306, Anchorage, AK 99501-2252.

FOR FURTHER INFORMATION CONTACT: Chris Oliver, NPFMC, 907-271-2809.

SUPPLEMENTARY INFORMATION: The meeting will begin at 9:00 a.m. on Monday, July 24, and continue until business for the day is completed. The meeting will reconvene on Tuesday, July 25, at 9:00 a.m.

The committee's agenda includes the following issues:

1. Review and discuss information on:

A. General observer needs by week;

B. Foreign observer program model; and

C. Updated estimates of observer costs, exvessel value, and potential fee percentage.

2. Review and discuss findings of an independent review of the North Pacific groundfish observer program prepared by MRAG Americas.

3. Discuss baseline program goals and objectives.

4. Discuss and identify major program alternatives

5. Discuss and resolve appropriate wording for Magnuson-Stevens Act reauthorization.

6. Identify additional information needs.

Although non-emergency issues not contained in this agenda may come before this committee for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Helen Allen, 907-271-2809, at least 5 working days prior to the meeting date.

Dated: June 29, 2000.
Richard W. Surdi,
Acting Director, Office of Sustainable Fisheries, National Marine Fisheries Service.

[FR Doc. 00-17111 Filed 7-5-00; 8:45 am]

BILLING CODE 3510-22-F